DEPARTMENT OF LABOR

Office of the Secretary

Submission for OMB Review; Comment Request

March 9, 2001.

The Department of Labor (DOL) has submitted the following public information collection requests (ICRs) to the Office of Management and Budget (OMB) for review and approval in accordance with the Paperwork Reduction Act of 1995 (Pub. L. 104-13, 44 U.S.C. chapter 35). A copy of this ICR, with applicable supporting documentation, may be obtained by calling the Department of Labor. To obtain documentation contact Darrin King at (202) 693-4129 or E-Mail King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: Reinstatement with change of currently approved collection.

Agency: Employment and Training Administration (ETA).

Title: Planning Guidance and Instructions for Submission of Strategic 5-Year State Plan and Plan Modifications for Title I of the Workforce Investment Act of 1998 (Workforce Investment Systems) and the Wagner-Peyser Act.

OMB Number: 1205-0398.

Affected Public: State, Local, or Tribal Government.

Frequency: On occasion.

Number of Respondents: 59.

Number of Annual Responses: 59.

Estimated Time Per Response: 25 hours.

Total Burden Hours: 1,475.

Total Annualized Capital/Startup Costs: $0.

Total Annual Costs (operating/maintaining systems or purchasing services): $0.

Description: The Workforce Investment Act of 1998 (Public Law 105-220) provides the framework for a network of State workforce investment systems designed to meet the needs of the nation's businesses, job seekers, youth, and those who want to further their careers. Title I requires that States develop five-year strategic plan for this system. Modifications to these plans may be required under 20 CFR 652.212-214 and 20 CFR 661.230.

Ira L. Mills,
Departmental Clearance Officer.

[FR Doc. 01-6607 Filed 3-15-01; 8:45 am]

BILLING CODE 4510-30-M